FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants:

FAMA Shipping, Inc., 1969 Amsterdam Ave., New York, NY 10032, Officer: Jose N. Guillen, Vice President (Qualifying Individual).

GTS USA, Inc., 150-32 132nd Avenue, Jamaica, NY 11434, Officer: Guido Zehnder, Vice President (Qualifying Individual).

Non-Vessel Operating Common Carrier and Ocean Freight Forwarder Transportation Intermediary Applicants:

Aeromundo Express, NY Corp., 500 W. 175th Street, New York, NY 10033, Officers: Yanet Hernandez, Secretary (Qualifying Individual), Leandro Espinal, President.

Trayma Cargo Corp., 9999 NW. 89th Ave., Unit-9, Medley, FL 33177, Officers: Christian Umana, President (Qualifying Individual), Cesar A. Bojasuribe, Secretary.

Flamingo International, Inc., 10481 NW. 36 Street, Doral, FL 33178, Officer: Dawn M. Pierce, Vice President (Qualifying Individual).

SIL, LLC, 4471 NW. 36th Street, Miami Springs, FL 33166, Officer: Patricia D. Martin, President (Qualifying Individual).

Ocean Freight Forwarder—Ocean Transportation Intermediary Applicants:

M D Shipping, Inc., 7250 E. Colonial Drive, Orlando, FL 32807, Officer: Mahmoud D. Ali, President (Qualifying Individual).

Felman Cargo Group, LLC, 94-877 Farrington Hwy., Ste. B, Waipahu, HI 96797, Officers: Felix A. Mancenido, President (Qualifying Individual), Robert B. Castro, Vice President.

Mark VII ETS, LLC, 328 Office Square Lane, Ste. 201, Virginia Beach, VA 23462, Officer: Lynda Harrison, Member (Qualifying Individual).

Scanwell Logistics (ATL) Inc., 4799 Aviation Parkway, College Park, GA 30349, Officer: Gino Ming Tsung Lin, President (Qualifying Individual).

Dated: September 19, 2008.
Karen V. Gregory,
Assistant Secretary.

[FR Doc. E8-22471 Filed 9-23-08; 8:45 am]

BILLING CODE 6730-01-P